DEPARTMENT OF TRANSPORTATION

Federal Motor Carrier Safety Administration

[Docket No. FMCSA-2012-0280]

Qualification of Drivers; Exemption Applications; Vision

AGENCY: Federal Motor Carrier Safety Administration (FMCSA), DOT.

ACTION: Notice of applications for exemptions; request for comments.

SUMMARY: FMCSA announces receipt of applications from 14 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 23, 2012.

ADDRESSES: You may submit comments bearing the Federal Docket Management System (FDMS) Docket No. FMCSA-2012-0280 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 14 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Lazaro R. Apiau

Mr. Apiau, age 52, has had amblyopia in his left eye since birth. The best corrected visual acuity in his right eye is 20/15, and in his left eye, 20/200. Following an examination in 2012, his ophthalmologist noted, “I believe that Mr. Apiau has sufficient vision to perform the driving tasks required to operate a commercial vehicle.” Mr. Apiau reported that he has driven straight trucks for 3 years, accumulating 60,000 miles, and tractor-trailer combinations for 22 years, accumulating 2.6 million miles. He holds a Class A Commercial Driver's License (CDL) from Florida. His driving record for the last 3 years shows no crashes and no convictions for moving violations in a CMV.

Ronald J. Bergman

Mr. Bergman, 52, has loss of vision in his right eye due to a pituitary tumor that was removed in 2008. The visual acuity in his right eye is 20/50, and in his left eye, 20/15. Following an examination in 2012, his ophthalmologist noted, “In my medical opinion, Mr. Bergman's vision is good enough for him to drive commercial vehicles safely.” Mr. Bergman reported that he has driven straight trucks for 5 years, accumulating 125,000 miles, and tractor-trailer combinations for 26 years, accumulating 1.9 million miles. He holds a Class A CDL from Ohio. His driving record for the last 3 years shows no crashes and no convictions for moving violations in a CMV.

Noah E. Bowen

Mr. Bowen, 29, has had amblyopia in his left eye since childhood. The best corrected visual acuity in his right eye is 20/20, and in his left eye, 20/200. Following an examination in 2012, his optometrist noted, “It is my medical opinion that Noah Bowen has sufficient vision to perform the driving tasks required to operate a commercial vehicle.” Mr. Bowen reported that he has driven straight trucks for 11 years, accumulating 1.6 million miles, and tractor-trailer combinations for 8 years, accumulating 1.6 million miles. He holds a Class A CDL from Ohio. His driving record for the last 3 years shows no crashes but two convictions for moving violations in a CMV; one conviction was for failure to obey a traffic device, and one conviction was for speeding in a CMV. He exceeded the speed limit by 9 mph.

William J. Hall

Mr. Hall, 55, has iris damage in his right eye due to a traumatic injury sustained 40 years ago. The best corrected visual acuity in his right eye is 20/400, and in his left eye, 20/20. Following an examination in 2012, his optometrist noted, “I certify that Mr. Hall has sufficient vision to perform the driving tasks required to operate a commercial vehicle.” Mr. Hall reported that he has driven straight trucks for 4 years, accumulating 47,544 miles, and tractor-trailer combinations for 19 years, accumulating 304,000 miles. He holds a Class A CDL from Washington. His driving record for the last 3 years shows no crashes and no convictions for moving violations in a CMV.

Mark L. Julin

Mr. Julin, 61 has had amblyopia in his left eye since childhood. The visual acuity in his right eye is 20/20, and in his left eye, 20/400. Following an examination in 2012, his optometrist noted, “In my opinion, Mark Julin has the ability to operate a commercial vehicle. He has longstanding amblyopia in his left eye. His visual fields prove his peripheral vision in each eye is excellent.” Mr. Julin reported that he has driven straight trucks for 15 years, accumulating 1.3 million miles, and tractor-trailer combinations for 14 years, accumulating 140,000 miles. He holds a Class A CDL from Minnesota. His driving record for the last 3 years shows no crashes and no convictions for moving violations in a CMV.

Joshua D. Kelly

Mr. Kelly, 26, has loss of vision in his right eye due to cancer on the optic nerve head since 2002. The best corrected visual acuity in his right eye is 20/400, and in his left eye, 20/20. Following an examination in 2012, his optometrist noted, “Many people do drive with only good vision in one eye and he has sufficient vision in his left eye to operate a commercial vehicle.” Mr. Kelly reported that he has driven tractor-trailer combinations for 3 years, accumulating 46,800 miles. He holds a Class A CDL from North Carolina. His driving record for the last 3 years shows no crashes and no convictions for moving violations in a CMV.

Shelby M. Kuehler

Mr. Kuehler, 33, has aphakia in his right eye due to a traumatic incident at 8 weeks of age. The best corrected visual acuity in his right eye is 20/350, and in his left eye, 20/20. Following an examination in 2012, his optometrist noted, “In my medical opinion, Shelby has sufficient vision to perform driving tasks required to operate a commercial vehicle.” Mr. Kuehler reported that he has driven straight trucks for 7 years, accumulating 210,000 miles. He holds a Class C operator's license from Kansas. His driving record for the last 3 years shows no crashes and no convictions for moving violations in a CMV.

Lawrence D. Malecha

Mr. Malecha, 49, has had amblyopia in his right eye since childhood. The best corrected visual acuity in his right eye is 20/400, and in his left eye, 20/20. Following an examination in 2012, his optometrist noted, “It is my professional opinion that Mr. Malecha has sufficient vision to perform the driving tasks required to operate a commercial vehicle for interstate travel.” Mr. Malecha reported that he has driven straight trucks for 20 years, accumulating 300,000 miles. He holds a Class A CDL from Minnesota. His driving record for the last 3 years shows no crashes and no convictions for moving violations in a CMV.

Glenn C. Medeiros

Mr. Medeiros, 39, has had a macular cyst in his left eye since birth. The best corrected visual acuity in his right eye is 20/20, and in his left eye, 20/400. Following an examination in 2012, his optometrist noted, “It is my opinion that Mr. Medeiros is visually capable to perform the driving tasks required to operate a commercial vehicle.” Mr. Medeiros reported that he has driven straight trucks for 19 years, accumulating 304,000 miles. He holds a Class A CDL from North Carolina. His driving record for the last 3 years shows no crashes and no convictions for moving violations in a CMV.

Jay C. Naccarato

Mr. Naccarato, 48, has had amblyopia in his left eye since childhood. The best corrected visual acuity in his right eye is 20/15, and in his left eye, 20/200. Following an examination in 2012, his optometrist noted, “I certify, in my medical opinion, you have sufficient vision to perform the driving tasks required to operate a commercial vehicle.” Mr. Naccarato reported that he has driven tractor-trailer combinations for 34 years, accumulating 1 million miles, and tractor-trailer combinations for 14 years, accumulating 105,000 miles. He holds a Class A CDL from Washington. His driving record for the last 3 years shows no crashes and no convictions for moving violations in a CMV.

Paul B. Overman

Mr. Overman, 57, has complete loss of vision in his left eye due to a traumatic incident that occurred in 1995. The best corrected visual acuity in his right eye is 20/20. Following an examination in 2012, his ophthalmologist noted, “In my medical opinion, Mr. Overman's vision is entirely sufficient to perform the driving tasks required to operate a commercial vehicle.” Mr. Overman reported that he has driven straight trucks for 39 years, accumulating 234,000 miles, and tractor-trailer combinations for 35 years, accumulating 140,000 miles. He holds Class A CDL from Washington. His driving record for the last 3 years shows no crashes and no convictions for moving violations in a CMV.

Reginald I. Powell

Mr. Powell, 59, has a retinal fold in his right eye due to a traumatic incident that occurred in 1983. The best corrected visual acuity in his right eye is light perception only, and in his left eye, 20/20. Following an examination in 2012, his optometrist noted, “It is in my medical opinion that the patient should be able to drive as long as he is wearing proper corrective eyewear.” Mr. Powell reported that he has driven tractor-trailer combinations for 25 years, accumulating 1.2 million miles. He holds a Class A CDL from Illinois. His driving record for the last 3 years shows no crashes and no convictions for moving violations in a CMV.

Jerry M. Puckett

Mr. Puckett, 58, has had a macular hole in his left eye sustained due to a traumatic incident that occurred in 2009. The best corrected visual acuity in his right eye is 20/20, and in his left eye, light perception only. Following an examination in 2012, his ophthalmologist noted, “The patient does have the ability to recognize color of traffic lights in the right eye, but not in the left eye and in our medical opinion he has sufficient vision to perform the driving tasks required to operate a commercial vehicle.” Mr. Puckett reported that he has driven straight trucks for 4 years, accumulating 208,000 miles, and tractor-trailer combinations for 33 years, accumulating 1.7 million miles. He holds a Class A CDL from Ohio. His driving record for the last 3 years shows no crashes and no convictions for moving violations in a CMV.

Emin Toric

Mr. Toric, 34, has had amblyopia in his right eye since childhood. The best corrected visual acuity in his right eye is no light perception, and in his left eye, 20/20. Following an examination in 2012, his ophthalmologist noted, “Mr. Toric has normal vision in his left eye which, in my opinion, is sufficient for operating a commercial vehicle.” Mr. Toric reported that he has driven tractor-trailer combinations for 7 years, accumulating 1.4 million miles. He holds a Class A CDL from Georgia. His driving record for the last 3 years shows no crashes and no convictions for moving violations in a CMV.

Request for Comments

In accordance with 49 U.S.C. 31136(e) and 31315, FMCSA requests public comment from all interested persons on the exemption petitions described in this notice. The Agency will consider all comments received before the close of business November 23, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: October 16, 2012.
Larry W. Minor,
Associate Administrator for Policy.

[FR Doc. 2012-26055 Filed 10-22-12; 8:45 am]

BILLING CODE 4910-EX-P